DEPARTMENT OF HEALTH AND HUMAN SERVICES

National Institutes of Health

Proposed Collection; 60-Day Comment Request; Generic Clearance for NIH Citizen Science and Crowdsourcing Projects (Office of the Director)

AGENCY: National Institutes of Health, HHS.

ACTION: Notice.

SUMMARY: In compliance with the requirement of the Paperwork Reduction Act of 1995 to provide opportunity for public comment on proposed data collection projects, the National Institutes of Health (NIH) will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Mikia Currie, Chief, Project Clearance Branch (PCB), Office of Policy and Extramural Research Administration (OPERA), Office of the Director (OD), Office of Extramural Research (OER), NIH, 6705 Rockledge Drive, Bethesda, Maryland 20892, MSC 7980, or call non-toll-free number (301) 435-0941 or email your request, including your address to: ProjectClearanceBranch@mail.nih.gov.

SUPPLEMENTARY INFORMATION: Section 3506(c)(2)(A) of the Paperwork Reduction Act of 1995 requires: written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Proposed Collection: Generic Clearance for NIH Citizen Science and Crowdsourcing Projects—0925-0766—exp., date 04/30/2023, EXTENSION, Project Clearance Branch (PCB), Office of Policy and Extramural Research Administration (OPERA), Office of the Director (OD), Office of Extramural Research (OER), National Institutes of Health (NIH).

Need and Use of Information Collection: Projects under this generic clearance will allow Agency researchers and program staff to test ideas more quickly, respond to the project's needs as they evolve, and incorporate feedback from participants for flexible, innovative research methods. The purpose of this information collection is to:

• Accelerate scientific research

• Increase cost-effectiveness to maximize the return on taxpayer dollars

• Address societal needs

• Provide hands-on learning in STEM education

• Connect members of the public directly to federal science missions and each other

• Identify and disseminate resources more broadly to the public, on the Institutes' and Centers' websites, and/or

• Collect information for Agency internal use to improve scientific practices and/or assist in scientific reviews

OMB approval is requested for 3 years. There are no costs to respondents other than their time. The total estimated annualized burden hours are 18,584.

Estimated Annualized Burden Hours
Type of collection | Number of respondents | Number of responses per respondent | Time per response (in hours) | Total hours
Call for Nominations/Resources | 1,000 | 1 | 10/60 | 167
Recommendations of scientific reviewers | 1,000 | 1 | 5/60 | 83
Request for Population Characteristics | 20,000 | 1 | 5/60 | 1,667
Repository of Tools and Best Practices | 100,000 | 1 | 10/60 | 16,667
Total |  | 122,000 |  | 18,584

Dated: February 7, 2023.
Tara A. Schwetz,
Acting Principal Deputy Director, National Institutes of Health.

[FR Doc. 2023-03062 Filed 2-13-23; 8:45 am]

BILLING CODE 4140-01-P